DEPARTMENT OF ENERGY

Federal Energy Regulatory Commission

[Docket No. AC03-69-000, et al.]

UniSource Energy Corporation, et al.; Electric Rate and Corporate Filings

August 1, 2003.

The following filings have been made with the Commission. The filings are listed in ascending order within each docket classification.

1. UniSource Energy Corporation

[Docket No. AC03-69-000]

Take notice that on July 22, 2003, the UniSource Energy Corporation made a compliance filing pursuant to the accounting and reporting requirements set forth by the Commission in Order 631, Accounting, Financial Reporting, and Rate Filing Requirements for Asset Retirement Obligations. The Commission directed jurisdictional entities to file journal entries and supporting information for any adjustments made that affect net income as a result of implementing the accounting rules contained in Order 631.

Comment Date: August 12, 2003.

2. Midwest Independent Transmission System Operator, Inc.

[Docket No. EL03-30-003]

Take notice that on July 28, 2003, the Midwest Independent Transmission System Operator, Inc. (Midwest ISO) submitted for filing proposed revisions to Section 13.2 of its Open Access Transmission Tariff, FERC Electric Tariff, Second Revised Volume No. 1, in compliance with the Commission's July 11, 2003 Order on Rehearing, 104 FERC ¶ 61,075 (2003), to reflect that competing requests are those that involve the same source or sink Control Area or controllable device/contract path interface.

The Midwest ISO has requested waiver of the sixty (60)-day effective date and an effective date of March 3, 2003.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region. In addition, Midwest ISO states that the filing has been electronically posted on the Midwest ISO's Web site at www.midwestiso.org under the heading “Filings to FERC” for other interested parties in this matter. The Midwest ISO also states that it will provide hard copies to any interested parties upon request.

Comment Date: August 27, 2003.

3. Midwest Independent Transmission System Operator, Inc.

[Docket No. EL03-35-003]

Take notice that on July 29, 2003, Midwest Independent Transmission System Operator, Inc. tendered for filing with the Federal Energy Regulatory Commission (Commission) an amended compliance report pursuant to the Commission's May 21, 2003 order issued in Docket No. EL03-35-000, 103 FERC ¶ 61,210 (2003).

Comment Date: August 28, 2003.

4. PJM Interconnection, L.L.C.

[Docket No. ER03-703-001]

Take notice that on July 29, 2003, PJM Interconnection, L.L.C. (PJM), in compliance with the Commission's May 30, 2003 Order in this proceeding, 103 FERC ¶ 61,250, filed minor revisions to the Reliability Assurance Agreement Among Load-serving Entities in the PJM Control Area and the PJM West Reliability Assurance Agreement Among Load-serving Entities in the PJM West Region.

PJM states that the compliance tariff sheets have an effective date of June 1, 2003, as established by the May 30 Order. PJM also states that copies of this filing have been served on all PJM members and utility regulatory commissions in the PJM region and on all parties listed on the official service list compiled by the Secretary in this proceeding.

Comment Date: August 19, 2003.

5. Pacific Gas and Electric Company

[Docket No. ER03-1120-000]

Take notice that on July 28, 2003, Pacific Gas and Electric Company (PG&E) tendered for filing a revision to the Service Agreement for Wholesale Distribution Service (WDT Service Agreement) between PG&E and the Port of Oakland (Port). PG&E states that the WDT Service Agreement is submitted pursuant to the PG&E Wholesale Distribution Tariff (WDT), and permits PG&E to recover the ongoing costs for service required over PG&E's distribution facilities. PG&E has requested certain waivers.

PG&E states that copies of this filing have been served upon Port, the California Independent System Operator Corporation and the California Public Utilities Commission.

Comment Date: August 18, 2003.

6. PacifiCorp

[Docket No. ER03-1121-000]

Take notice that on July 28, 2003, PacifiCorp tendered for filing in accordance with 18 CFR 35 of the Commission's Rules and Regulations a Notice of Cancellation of PacifiCorp's Rate Schedule No. 254 with Puget Sound Power & Light Company effective October 31, 2003.

PacifiCorp states that copies of this filing were supplied to Puget Sound Power & Light Company, the Washington Utilities and Transportation Commission and the Public Utility Commission of Oregon.

Comment Date: August 18, 2003.

7. American Electric Power Service Corporation

[Docket No. ER03-1122-000]

Take notice that on July 28, 2003, American Electric Power Service Corporation (AEPSC), as agent for AEP Texas Central Company (Texas Central), submitted for filing the South Texas Project Interconnection Agreement (the Interconnection Agreement) between STP Nuclear Operating Company and several owners of the interconnected transmission systems among which Texas Central is included. AEPSC states that the Interconnection Agreement provides for the continued interconnection of two existing nuclear powered generating units near Wadsworth, Texas.

AEPSC seeks an effective date of August 15, 2002 for the Interconnection Agreement and waiver of the Commission's notice of filing requirement because there are no related rates or charges.

AEPSC states it has served copies of the filing on STP Nuclear Operating Company, CenterPoint Energy Houston Electric LLC, Austin Energy, City Public Service of San Antonio and the Public Utility Commission of Texas.

Comment Date: August 18, 2003.

8. Deseret Generation & Transmission Co-operative, Inc.

[Docket No. ER03-1123-000]

Take notice that on July 28, 2003, Deseret Generation & Transmission Co-operative, Inc., (Deseret) tendered for filing with the Commission certain amendments to its market-based rate authority under Deseret's FERC Electric Tariff, Volume No. 3. Deseret seeks authority to add a provision to its existing market-based rate tariff that expressly permits it to reassign transmission capacity to third parties, to the extent it is not already permitted to do so. Deseret also seeks to eliminate the forms of service agreement attached to its tariff, as such forms are no longer required, given the Commission's elimination of the filing requirement for market-based agreements under Order No. 2001. Deseret request an effective date of July 31, 2003.

Comment Date: August 18, 2003.

9. PJM Interconnection, L.L.C.

[Docket No. ER03-1124-000]

Take notice that on July 29, 2003, PJM Interconnection, L.L.C. (PJM), submitted for filing two interim interconnection service agreements between PJM and PSEG Nuclear, LLC, and between PJM and MM Hackensack Energy, L.L.C., and a Notice of Cancellation for a certain interim interconnection service agreement that has been superseded.

PJM requests a waiver of the Commission's 60-day notice requirement to permit the effective dates agreed to by the parties for the agreements. PJM also states that copies of this filing were served upon PSEG Nuclear, LLC, MM Hackensack Energy, L.L.C. and the state regulatory commissions within the PJM region.

Comment Date: August 19, 2003.

10. PJM Interconnection, L.L.C.

[Docket No. ER03-1125-000]

Take notice that on July 29, 2003, PJM Interconnection, L.L.C. (PJM), submitted for filing an amended interconnection service agreement and an amended construction service agreement among PJM, Waymart Wind Farm L.P., and PPL Electric Utilities Corporation.

PJM requests a waiver of the Commission's 60-day notice requirement to permit a July 14, 2003 effective date for the agreements. PJM also states that copies of this filing were served upon the parties to the agreements and the state regulatory commissions within the PJM region.

Comment Date: August 19, 2003.

11. Morgan Stanley Capital Group Inc.

[Docket No. ER03-1126-000]

Take notice that on July 29, 2003, Morgan Stanley Capital Group Inc. (MSCG), tendered for filing its Rate Schedule FERC No. 16. MSCG has requested that the Commission accept the Rate Schedule FERC No. 16 effective July 30, 2003.

MSCG states that a copy of the filing was served upon MSCG's jurisdictional customer, Deseret Generation & Transmission Co-operative.

Comment Date: August 12, 2003.

12. ISO New England Inc.

[Docket No. OA97-237-000]

Take notice that on July 24, 2003, ISO New England Inc. (the ISO) tendered for filing with the Federal Energy Regulatory Commission (Commission) its Market Report for the Third and Fourth Quarters (November 2002—February 2003).

Comment Date: August 25, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-20346 Filed 8-11-03; 8:45 am]

BILLING CODE 6717-01-P